DEPARTMENT OF AGRICULTURE

Forest Service

Virginia Forest Management Project Environmental Impact Statement

AGENCY: Forest Service, USDA.

ACTION: Notice of intent to prepare an environmental impact statement.

SUMMARY: The Department of Agriculture, Forest Service, will prepare an Environmental Impact Statement (EIS) for the Virginia Area. The Record of Decision will disclose how the Forest Service has decided to manage approximately 101,000 acres of federal land. The proposed action would provide approximately 35 to 45 million board feet of timber to local and regional timber markets; final harvest approximately 5,000 acres of 60+ year-old aspen and jack pine experiencing substantial mortality from blowdown, decay and old age; reduce fuel loading on approximately 2,500 acres of mature red and white pine communities that are converting to balsam fir and brush through prescribed under-burning and other treatments to remove ladder fuels; hand release approximately 2,000 acres of regenerated red pine, white pine and black spruce communities from competing vegetation, and provide access to non-federally owned lands within the project boundaries. A road analysis will be done in conjunction with the Virginia project, to develop a mutual transportation plan. A range of alternatives responsive to significant issues will be developed, including a no-action alternative. The proposed project is located on the Laurentian Ranger District, Aurora, MN, Superior National Forest. In addition, the Laurentian Ranger District may create temporary openings greater than 40 acres under 36 CFR 219.27 (d)(ii).

DATES: Comments concerning the scope of this project should be received by June 20, 2002.

ADDRESSES: Please send written comments to: Laurentian Ranger District, Superior National Forest, ATTN: Virginia EIS, 318 Forestry Road, Aurora, MN 55705.

FOR FURTHER INFORMATION CONTACT: Allan Bier, District Ranger, or Barbara Stordahl, Team Leader, Laurentian Ranger District, Superior National Forest, 318 Forestry Road, Aurora, MN 55705, or at (218) 229-8800.

SUPPLEMENTARY INFORMATION: Public participation will be an integral component of the study process, and will be especially important at several points during the analysis. The first is during the scoping process. The Forest Service will be seeking information, comments and assistance from federal, State and local agencies, individuals and organizations that may be interested or affected by the proposed activities. The scoping process will include: (1) Identification of potential issues, (2) identification of issues to be analyzed in depth and (3) elimination of insignificant issues, or those which have been covered by a previous environmental review. Written comments will be solicited through a scoping package that will be sent to the project mailing list and local newspaper. For the Forest Service to best use the scoping input, comments should be received by June 20, 2002. Issues identified for analysis in the EIS include the potential effects of the project and the relationship of the project to age class distribution, species composition, reforestation, fuel reduction treatment, temporary roads, rare resources, and others.

Based on the results of scoping and the resource capabilities within the project area, alternatives, including a no-action alternative, will be developed for the Draft EIS. The Draft EIS is projected to be filed with the Environmental Protection Agency (EPA) in May 2003. The Final EIS is anticipated in November 2003.

The comment period on the Draft EIS will be a minimum of 45 days from the date that the EPA publishes the Notice of Availability in the Federal Register.

The Forest Service believes, at this early stage, that it is important to give reviewers notice of several court rulings related to public participation in the environmental review process. First, reviewers of Draft EIS's must structure their participation in the environmental review of the proposal, so that it is meaningful and alerts an agency to the reviewer's position and contentions (Vermont Yankee Nuclear Power Corp. v. NRDC, 435 U.S. 519, 553, [1978]). Environmental objections that could have been raised at the Draft EIS stage may be waived or dismissed by the courts (City of Angoon v. Hodel, 803 F.2nd 1016, 1022 (9th Cir. 1986) and Wisconsin Heritages, Inc. v. Harris, 490 F. Supp. 1334, 1338 [E.D. Wis. 1980]). Because of these court rulings, it is very important that those interested in this proposed action, participate by the close of the 45-day comment period, so that substantive comments and objections are made available to the Forest Service at a time when they can be meaningfully considered and responded to in the Final EIS.

To assist the Forest Service in identifying and considering issues and concerns of the proposed action, comments during scoping, and on the Draft EIS, should be as specific as possible and refer to specific pages or chapters. Comments may address the adequacy of the Draft EIS, or the merits of the alternatives formulated and discussed. In addressing these points, reviewers may wish to refer to the Council on Environmental Quality regulations for implementing the procedural provisions of the National Environmental Policy Act in 40 CFR 1503.3. Comments received in response to this solicitation, including names and addresses of those who comment, will be considered part of the public record on this proposed action, and will be available for public inspection. Comments submitted anonymously will be accepted and considered. Pursuant to 7 CFR 1.27(d), any person may request the agency to withhold a submission, from the public record, by showing how the Freedom of Information Act (FOIA) permits such confidentiality. Requesters should be aware that, under FOIA, confidentiality may be granted in only very limited circumstances, such as to protect trade secrets. The Forest Service will inform the requester of the agency's decision regarding the request for confidentiality. If the request is denied, the agency will return the submission and notify the requester that the comments may be resubmitted with or without name and address within seven days.

Permits/Authorizations

The proposed action may create temporary openings greater than 40 acres. A 60-day public notice and review by the Regional Forester would be needed for such action.

Easement or permission to cross non-federal property may be needed to access some treatment units to implement Forest Service activities.

Responsible Official

James W. Sanders, Forest Supervisor, Superior National Forest, is the responsible official. In making the decision, the responsible official will consider the comments, responses, disclosure of environmental consequences, and applicable laws, regulations, and policies. The responsible official will state the rationale for the chose alternative in the Record of Decision.

James W. Sanders,
Forest Supervisor, Superior National Forest.

[FR Doc. 02-11828 Filed 5-10-02; 8:45 am]

BILLING CODE 3410-11-M